DEPARTMENT OF COMMERCE

International Trade Administration

[C-489-502]

Certain Welded Carbon Steel Standard Pipe and Tube From Turkey: Intent To Rescind Countervailing Duty Administrative Review, in Part

AGENCY: Import Administration, International Trade Administration, Department of Commerce.

DATES: Effective Date: December 20, 2011.

FOR FURTHER INFORMATION CONTACT: Kristen Johnson, AD/CVD Operations, Office 3, Import Administration, International Trade Administration, U.S. Department of Commerce, Room 4014, 14th Street and Constitution Avenue NW, Washington, DC 20230, telephone: (202) 482-4793

SUPPLEMENTARY INFORMATION:

Background

On March 1, 2011, the Department of Commerce (the Department) published a notice of opportunity to request an administrative review of the countervailing duty (CVD) order on certain welded carbon steel pipe and tube from Turkey. See Antidumping or Countervailing Duty Order, Finding, or Suspended Investigation; Opportunity to Request Administrative Review, 76 FR 11197 (March 1, 2011). On March 30, 2011, we received a letter from Erbosan Erciyas Boru Sanayi ve Ticaret A.S. (ERBOSAN) requesting that the company's entries for the period of review be reviewed by the Department. On April 27, 2011, the Department published the notice of initiation of the administrative review of this CVD order for the period of review (POR) of January 1, 2010, through December 31, 2010, which included ERBOSAN.¹ See Initiation of Antidumping and Countervailing Duty Administrative Reviews, 76 FR 23545 (April 27, 2011).

¹ A review of the following companies was also initiated: Borusan Group, Borusan Mannesmann Boru Sanayi ve Ticaret A.S., Borusan Istikbal Ticaret T.A.S., Tosyali dis Ticaret A.S., and Toscelik Profil ve Sac Endustrisi A.S.

On October 27, 2011, the Department requested U.S. Customs and Border Protection (CBP) data on Type 3 entries of subject merchandise to the United States produced by EROBSAN during the POR. See Memorandum to the File from Kristen Johnson, Trade Analyst, AD/CVD Operations, Office 3, regarding “Request for Customs Data in the Countervailing Duty Administrative Review of Certain Welded Carbon Steel Standard Pipe from Turkey,” (October 27, 2011). A Type 3 entry is an entry of merchandise imported into the United States which is subject to antidumping or countervailing duties, as the case may be, and for which liquidation is suspended until after the completion of an administrative review in which the assessment rate is calculated. We reviewed the customs data provided by CBP and found that there were no suspended entries of subject merchandise produced by ERBOSAN for the POR.

On November 3, 2011, we issued a letter to ERBOSAN explaining that the Department's practice requires there to be a suspended entry during the POR upon which to assess duties in order to conduct an administrative review.² As such, we requested that EROBSAN submit evidence demonstrating that the company had a Type 3 entry of subject merchandise to the United States during the CVD POR. We also explained that if ERBOSAN is unable to provide such documentation, the Department will find that there are no suspended entries of subject merchandise produced by EROBSAN against which to assess duties and will rescind the 2010 CVD administrative review with respect to the company. See Letter from the Department to ERBOSAN regarding “Entry Documentation,” (November 3, 2011). On November 17, 2011, ERBOSAN reported that because the exports of subject merchandise to the United States during the POR were to an unrelated importer, the company does not have any entry documentation. See ERBOSAN's “Response to Entry Documentation Request,” (November 17, 2011) at 2.

² See, e.g., Certain Hot-Rolled Carbon Steel Flat Products from India: Final Results of Antidumping Duty Administrative Review, 76 FR 42679 (July 19, 2011), and accompanying Issues and Decision Memorandum at Comment 1; see also Certain Cut-to-Length Carbon-Quality Steel Plate Products from Italy: Final Results and Partial Rescission of Antidumping Duty Administrative Review, 71 FR 39299, 39302 (July 12, 2006), and Portable Electric Typewriters from Japan; Final Results of Antidumping Duty Administrative Review, 56 FR 14072, 14073 (April 5, 1991).

On December 2, 2011, officials of Import Administration met with ERBOSAN's counsel to discuss the company's entries of subject merchandise during the POR. See Memorandum to the File from Kristen Johnson, Trade Analyst, AD/CVD Operations, Office 3, regarding “Meeting with Counsel for ERBOSAN,” (December 5, 2011).

Scope of the Order

The products covered by this order are certain welded carbon steel pipe and tube with an outside diameter of 0.375 inch or more, but not over 16 inches, of any wall thickness (pipe and tube) from Turkey. These products are currently provided for under the Harmonized Tariff Schedule of the United States (HTSUS) as item numbers 7306.30.10, 7306.30.50, and 7306.90.10. Although the HTSUS subheadings are provided for convenience and customs purposes, the written description of the merchandise is dispositive.

Intent To Rescind the 2010 Administrative Review, in Part

Because ERBOSAN is unable to provide evidence that the company had a Type 3 entry of subject merchandise to the United States during the POR, we preliminarily determine that we will rescind the review for ERBOSAN.³ In Allegheny Ludlum Corp. v. United States, 346 F.3d 1368 (Fed. Cir. 2003), the Court of Appeals for the Federal Circuit upheld the Department's practice of rescinding annual reviews when there are no entries of subject merchandise during the POR. Accordingly, we will continue this administrative review with respect to the Borusan Group, Borusan Mannesmann Boru Sanayi ve Ticaret A.S., Borusan Istikbal Ticaret T.A.S., Tosyali dis Ticaret A.S., and Toscelik Profil ve Sac Endustrisi A.S.

³ We also intend to notify CBP about the status of entries of subject merchandise produced/exported by ERBOSAN.

Public Comment

The Department is setting aside a period for interested parties to raise issues regarding the preliminary determination to rescind the administrative review for ERBOSAN. Interested parties may submit such comments within 20 calendar days of the publication of this notice. Comments must be filed electronically using Import Administration's Antidumping and Countervailing Duty Centralized Electronic Service System (IA ACCESS).

We are issuing this notice in accordance with sections 751(a)(1) and 777(i)(1) of the Tariff Act of 1930, as amended, and 19 CFR 351.213(d)(4) of the Department's regulations.

Dated: December 13, 2011.
Christian Marsh,
Deputy Assistant Secretary for Antidumping and Countervailing Duty Operations.

[FR Doc. 2011-32545 Filed 12-19-11; 8:45 am]

BILLING CODE 3510-DS-P